DEPARTMENT OF JUSTICE

Notice of Lodging of Consent Decree Under the Clean Air Act, the Clean Water Act, the Emergency Planning and Community Right-To-Know Act, and the Comprehensive Environmental Response, Compensation, and Liability Act

Notice is hereby given that on March 2, 2010, a proposed Consent Decree (“Decree”) in United States v. AES Thames, LLC, Civil Action No. 3:10cv281, was lodged with the United States District Court for the District of Connecticut.

The Decree resolves claims of the United States against AES Thames, LLC under the Clean Air Act, 42 U.S.C. 7401-7671q, the Clean Water Act, 33 U.S.C. 1251-1387, the Emergency Planning and Community Right-to-Know Act, 42 U.S.C. 11001-11050, and the Comprehensive Environmental Response, Compensation and Liability Act of 1980, 42 U.S.C. 9601-9675, for injunctive relief and recovery of civil penalties in connection with AES Thames, LLC's operation of a coal-fired power plant located in Montville, Connecticut. The Decree requires AES Thames to pay $140,000 in civil penalties and institute injunctive relief in the form of operator training and implementation of additional spill control measures and safeguards.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States v. AES Thames, LLC, Civil Action No. 3:10cv281 D. Conn.), D.J. Ref. 90-5-2-1-08991.

The Decree may be examined at the Office of the United States Attorney, District of Connecticut, New Haven Office, Connecticut Financial Center, 157 Church Street, Floor 23, New Haven, CT 06510, and at U.S. EPA Region I, 5 Post Office Square, Boston, MA 02109. During the public comment period, the Decree, may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by email or fax, forward a check in that amount to the Consent Decree Library at the stated address.

Maureen Katz,
Assistant Chief, Environmental Enforcement Section, Environment and Natural Resources Division.

[FR Doc. 2010-4789 Filed 3-5-10; 8:45 am]

BILLING CODE 4410-15-P